DEPARTMENT OF AGRICULTURE

Animal and Plant Health Inspection Service

[Docket No. APHIS-2006-0060]

Notice of Request for Extension of Approval of an Information Collection; Certification Program for Imported Articles of Pelargonium spp. and Solanum spp. To Prevent Introduction of Potato Brown Rot

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for a certification program for imported articles of Pelargonium spp. and Solanum spp. to prevent the introduction of potato brown rot.

DATES: We will consider all comments that we receive on or before August 15, 2006.

ADDRESSES: You may submit comments by either of the following methods:

Federal eRulemaking Portal: Go to http://www.regulations.gov and, in the lower “Search Regulations and Federal Actions” box, select “Animal and Plant Health Inspection Service” from the agency drop-down menu, then click on “Submit.” In the Docket ID column, select APHIS-2006-0060 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0060, Regulatory Analysis and Development, PPD, APHIS, Station 3A-03.8, 4700 River Road Unit 118, Riverdale, MD 20737-1238. Please state that your comment refers to Docket No. APHIS-2006-0060.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on an information collection associated with importation regulations to prevent the introduction of potato brown rot, contact Mr. William Thomas, Executive Director, Quarantine Policy, Analysis and Support, PPQ, APHIS, 4700 River Road Unit 60, Riverdale, MD 20732-1231; (301) 734-8295. For copies of more detailed information on the information collection, contact Mrs. Celeste Sickles, APHIS' Information Collection Coordinator, at (301) 734-7477.

SUPPLEMENTARY INFORMATION: Title: Certification Program for Imported Articles of Pelargonium spp. and Solanum spp. to Prevent Introduction of Potato Brown Rot.

OMB Number: 0579-0221.

Type of Request: Extension of approval of an information collection.

Abstract: Under the Plant Protection Act (7 U.S.C. 7701 et seq.), the Animal and Plant Health Inspection Service is authorized to prohibit or restrict the importation of plants, plant products, plant pests, and other articles to prevent the introduction of plant pests into the United States.

The regulations in 7 CFR part 319 prohibit or restrict the importation of certain plants and plant products into the United States to prevent the introduction of plant pests. The regulations contained in “Subpart-Nursery Stock, Plants, Roots, Bulbs, Seeds, and Other Plant products,” §§ 319.37 through 319.37-14 (referred to below as the regulations), restrict, among other things, the importation of living plants, plant parts, seeds, and plant cuttings for propagation.

The regulations include a certification program for articles of Pelargonium spp. and Solanum spp. imported from countries where the bacterium Ralstonia solanacearum race 3 biovar 2 is known to occur. The requirements of the certification program were designed to ensure that Ralstonia solanacearum race 3 biovar 2 will not be introduced into the United States through the importation of articles of Pelargonium spp. and Solanum spp. This bacterial strain causes potato brown rot, which causes potatoes to rot through, making them unusable and seriously affecting potato yields.

The certification program requires the collection of information through phytosanitary certificates (foreign), trust funds, and compliance agreements.

We are asking the Office of Management and Budget (OMB) to approve these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Growers, State plant regulatory officials.

Estimated annual number of respondents: 27.

Estimated annual number of responses per respondent: 37.851851.

Estimated annual number of responses: 1,022.

Estimated total annual burden on respondents: 1,022 hours. (Due to averaging, the total annual burden hours may not equal the product of the annual number of responses multiplied by the reporting burden per response.)

All responses to this notice will be summarized and included in the request for OMB approval. All comments will also become a matter of public record.

Done in Washington, DC, this 12th day of June 2006.
Kevin Shea,
Acting Administrator, Animal and Plant Health Inspection Service.

[FR Doc. E6-9468 Filed 6-15-06; 8:45 am]

BILLING CODE 3410-34-P